DEPARTMENT OF VETERANS AFFAIRS

[OMB Control No. 2900-0886]

Agency Information Collection Activity Under OMB Review: Decision Review Request: Supplemental Claim

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0886.

FOR FURTHER INFORMATION CONTACT: Maribel Aponte, Office of Enterprise and Integration, Data Governance Analytics (008), 810 Vermont Ave. NW, Washington, DC 20006, (202) 266-4688 or email maribel.aponte@va.gov. Please refer to “OMB Control No. 2900-0886” in any correspondence.

SUPPLEMENTARY INFORMATION:

Authority: Public Law 115-55, sec 2, 38 U.S.C. 5108, 38 CFR 3.2501.

Title: Decision Review Request: Supplemental Claim (VA Form 20-0995).

OMB Control Number: 2900-0886.

Type of Review: Revision of a currently approved collection.

Abstract: VA Form 20-0995 is used by a claimant and/or beneficiary to formally request a review of an initial VA decision, based on new and relevant evidence, in accordance with the Appeals Modernization Act. Without the information solicited by this form, VA would be unable to initiate the `Supplemental Claim' on behalf of the claimant or determine the issues for which the claimant seeks review.

This proposed revision consists of; non-substantive edits to the `Instructions' to help clarify the content, a new question that helps identify what benefit type the claimant is requesting, a new section that separates Veteran from claimant, a new section identifying if the claimant is homeless or at risk of becoming homeless, a new section that provides an option to the claimant to check a box if they want VBA to notify the Veteran Health Administration about certain upcoming event(s) during the claim and/or appeal process, and a witness signature section, alternate signer signature section, and a power of attorney signature section has been added to help clarify who is signing the form. The respondent burden has increased due to the estimated number of receivables averaged over the past year.

The frequency of collection depends solely upon the desire of VA claimants to seek review of an initial VA decision in the Supplemental Claim Lane. In that sense, VA does not control the frequency of collection.

An agency may not conduct or sponsor, and a person is not required to respond to a collection of information unless it displays a currently valid OMB control number. The Federal Register Notice with a 60-day comment period soliciting comments on this collection of information was published at 89 FR 10161 on Tuesday, February 13, 2024.

Affected Public: Individuals or households.

Estimated Annual Burden: 160,119.

Estimated Average Burden per Respondent: 15 minutes.

Frequency of Response: One time.

Estimated Number of Respondents: 640,477.

By direction of the Secretary.
Maribel Aponte,
VA PRA Clearance Officer, Office of Enterprise and Integration, Data Governance Analytics, Department of Veterans Affairs.

[FR Doc. 2024-08343 Filed 4-18-24; 8:45 am]

BILLING CODE 8320-01-P